DEPARTMENT OF DEFENSE

Office of the Secretary

[Docket ID DoD-2015-OS-0033]

Proposed Collection; Comment Request

AGENCY: Department of Defense, Office of the General Counsel/Defense Legal Services Agency.

ACTION: Notice.

SUMMARY: In compliance with the Paperwork Reduction Act of 1995, the Department of Defense, Office of the General Counsel/Defense Legal Services Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 12, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of Defense, Office of the General Counsel/Defense Legal Services Agency, 1600 Defense Pentagon, ATTN: Standard of Conduct Office, Washington, DC or email: OSD.SOCO@MAIL.MIL.

SUPPLEMENTARY INFORMATION: Title; Associated Form; and OMB Number: Office of the Secretary of Defense Confidential Conflict-of-Interest Statement for Office of the Secretary of Defense Advisory Committee Members SD Form X682; OMB Control Number 0704-XXXX.

Needs and Uses: The information requested on this form is required by Title I of the Ethics in Government Act of 1978 (5 U.S.C. App.), Executive Order 12674, and 5 CFR part 2634, subpart I, of the Office of Government Ethics regulations. The requested information is necessary to prevent conflicts of interest and to identify potential conflicts of individuals serving on certain Office of the Secretary of Defense (OSD) Advisory Committees.

Affected Public: Individuals serving on certain OSD Federal Advisory Committees.

Annual Burden Hours: 125 hours

Number of Respondents: 125 respondents

Responses Per Respondent: 1 per respondent

Annual Responses: 125 responses

Average Burden Per Response: 1 hour

Frequency: Annually

Respondents are members of or potential members of Office of the Secretary of Defense Advisory Committees. Draft form X682 will assist in identifying potential conflicts of interest due to personal financial interests or affiliations. The collection of requested information on the form will satisfy a Federal regulatory requirement and assist the Department of Defense comply with applicable Federal conflict of interest laws and regulations.

Dated: April 7, 2015.
Aaron Siegel,
Alternate OSD Federal Register Liaison Officer, Department of Defense.

[FR Doc. 2015-08315 Filed 4-10-15; 8:45 am]

BILLING CODE 5001-06-P